CONSUMER PRODUCT SAFETY COMMISSION

[CPSC Docket No. 09-C0001]

IKEA North American Services, LLC, a Corporation, Provisional Acceptance of a Settlement Agreement and Order

AGENCY: Consumer Product Safety Commission.

ACTION: Notice.

SUMMARY: It is the policy of the Commission to publish settlements which it provisionally accepts under the Federal Hazardous Substances Act in the Federal Register in accordance with the terms of 16 CFR 1118.20(e). Published below is a provisionally accepted Settlement Agreement with IKEA North American Services, LLC, a corporation, containing a civil penalty of $500,000.00.

DATES: Any interested person may ask the Commission not to accept this agreement or otherwise comment on its contents by filing a written request with the Office of the Secretary by December 16, 2008.

ADDRESSES: Persons wishing to comment on this Settlement Agreement should send written comments to the Comment 09-C0001, Office of the Secretary, Consumer Product Safety Commission, 4330 East West Highway, Room 502, Bethesda, Maryland 20814-4408.

FOR FURTHER INFORMATION CONTACT: Belinda V. Bell, Trial Attorney, Office of Compliance and Field Operations, Consumer Product Safety Commission, 4330 East West Highway, Bethesda, Maryland 20814-4408; telephone (301) 504-7592.

SUPPLEMENTARY INFORMATION: The text of the Agreement and Order appears below.

Dated: November 21, 2008.
Todd A. Stevenson,
Secretary.

United States of America Consumer Product Safety Commission

[CPSC Docket No. 09-C0001]

In the Matter of IKEA North America Services, LLC, a Corporation

Settlement Agreement

1. This Settlement Agreement (“Agreement”) is made by and between the staff (“staff'') of the U.S. Consumer Product Safety Commission (“Commission”) and IKEA North America Services, LLC (“IKEA”), a corporation, in accordance with 16 CFR 1118.20 of the Commission's Procedures for Investigations, Inspections, and Inquiries under the Consumer Product Safety Act (“CPSA”). This Agreement and the incorporated attached Order (“Order”) resolve the staffs allegations set forth below.

The Parties

2. The Commission is an independent federal regulatory agency established pursuant to, and responsible for the enforcement of the CPSA, 15 U.S.C. 2051-2089.

3. IKEA is a corporation organized and existing under the laws of the State of Delaware, with its principal corporate office located in Conshohocken, PA.

4. At all times relevant herein, IKEA designed, manufactured and sold outdoor candles, including those that are the subject of the Agreement and Order.

Staff Allegations

5. Between February 2001 and July 2005, IKEA manufactured and sold approximately 133,000 sets of outdoor candles (6 candles per set), under the style names of Angar and Samlas, at IKEA stores in the United States for about $4.00 per set (“candles” or “products”). The firm also sold 1.3 million candle sets internationally.

6. The candles are “consumer product(s)” and, at all times relevant herein, IKEA was a “manufacturer,” and “retailer” of “consumer product(s),” which were “distributed in commerce” as those terms are defined or used in sections 3(a)(5), (8), (11) and (13) of the CPSA, 15 U.S.C. 2052(a)(5), (8), (11) and (13).

7. The candles are defective because: (1) The candle's flame can unexpectedly flare up, causing the entire top surface of the candle to ignite and spread flames beyond the container; (2) even in non-flare up situations, if a consumer attempts to extinguish a burning candle by blowing or dousing it with water, the candle's wax can spatter and burn the consumer's face; and (3) the product fails to provide adequate warning notice regarding the above mentioned hazards. These defects pose fire and burn hazards to consumers.

8. Between July 2001 and March 2006, IKEA received approximately 32 worldwide reports of incidents in which the candles unexpectedly flared up and/or consumers were spattered with hot candle wax. The firm is aware of 13 reports of property damage and at least 12 injuries to consumers.

9. Despite being aware of the information set forth in paragraphs 7 and 8 above, IKEA did not report to the Commission until March 2006, after the Commission had opened its own investigation and requested IKEA to report.

10. Although IKEA had obtained sufficient information to reasonably support the conclusion that the candles contained a defect which could create a substantial product hazard, or created an unreasonable risk of serious injury or death, it failed to immediately inform the Commission of such defect or risk as required by sections 1 5(b)(3) and (4) of the CPSA, 15 U.S.C. 2064(b)(3) and (4). In failing to do so, IKEA “knowingly” violated section l9(a)(4) of the CPSA, 15 U.S.C. 2068(a)(4), as the term “knowingly” is defined in section 20(d) of the CPSA, 15 U.S.C. 2069(d).

11. Pursuant to section 20 of the CPSA, 15 U.S.C. 2069, IKEA is subject to civil penalties for its failure to report as required under section 15(b) of the CPSA, 15 U.S.C. 2064(b).

Response of IKEA

12. IKEA denies the allegations of the staff that the candles contain a defect which could create a substantial product hazard, or create an unreasonable risk of serious injury or death, and denies that it violated the reporting requirements of Section 15(b) of the CPSA, 15 U.S.C. 2064(b).

Agreement of the Parties

13. Under the CPSA, the Commission has jurisdiction over this matter and over IKEA.

14. In settlement of the staff's allegations, IKEA agrees to pay a civil penalty of five hundred thousand dollars ($500,000.00), within twenty (20) calendar days of receiving service of the Commission's Final Order accepting the Agreement. This payment shall be made by check to the order of the United States Treasury.

15. The parties enter the Agreement for settlement purposes only. The Agreement does not constitute an admission by IKEA or a determination by the Commission that IKEA violated the CPSA's reporting requirements.

16. Upon provisional acceptance of the Agreement by the Commission, the Agreement shall be placed on the public record and published in the Federal Register in accordance with the procedures set forth in 16 CFR 1118.20(e). If the Commission does not receive any written requests not to accept the Agreement within 15 calendar days, the Agreement shall be deemed finally accepted on the 16th calendar day after the date it is published in the Federal Register, in accordance with 16 CFR 1118.20(1).

17. Upon the Commission's final acceptance of the Agreement and issuance of the final Order, IKEA knowingly, voluntarily and completely waives any rights it may have in this matter to the following: (i) An administrative or judicial hearing; (ii) judicial review or other challenge or contest of the Commission's actions; (iii) a determination by the Commission as to whether IKEA failed to comply with the CPSA and the underlying regulations; (iv) a statement of findings of fact and conclusions of law; and (v) any claims under the Equal Access to Justice Act.

18. The Commission may publicize the terms of the Agreement and Order.

19. The Agreement and Order shall apply to, and be binding upon IKEA and each of its successors and assigns.

20. The Commission's Order in this matter is issued under the provisions of the CPSA, and a violation of the Order may subject those referenced in paragraph 19 above to appropriate legal action.

21. This Agreement may be used in interpreting the Order. Agreements, understandings, representations, or interpretations apart from those contained in the Agreement and Order may not be used to vary or to contradict their terms.

22. The Agreement shall not be waived, amended, modified, or otherwise altered, without written agreement thereto executed by the party against whom such amendment, modification, alteration, or waiver is sought to be enforced.

23. If, after the effective date hereof, any provision of the Agreement and the order is held to be illegal, invalid, or unenforceable under present or future laws effective during the terms of the Agreement and Order, such provision shall be fully severable. The balance of the Agreement and Order shall remain in full force and effect, unless the Commission and IKEA agree that severing the provision materially affects the purpose of the Agreement and Order.

IKEA North America Services, LLC

Sept. 19, 2008.

By: Krister Hard af Segerstad,

Manager, Product Safety & Compliance, IKEA North America Services, LLC, 420 Alan Wood Road, Conshohocken, PA 19428.

Sept. 19, 2008.

By: Rob Olson,

Chief Financial Officer, IKEA North America Services, LLC, 420 Alan Wood Road, Conshohocken, PA 19428.

U.S. Consumer Product Safety Commission

Cheryl Falvey,

General Counsel.

Ronald G. Yelenik,

Assistant General Counsel, Division of Compliance, Office of the General Counsel.

Nov. 21, 2008.

By: Belinda V. Bell,

Trial Attorney, Division of Compliance, Office of the General Counsel.

United States of America, Consumer Product Safety Commission.

[CPSC Docket No. 09-C0001]

In the Matter of Ikea North America Services, LLC

Order

Upon consideration of the Settlement Agreement entered into between IKEA North America Services, LLC (“IKEA”) and the U.S. Consumer Product Safety Commission (“Commission”) staff, and the Commission having jurisdiction over the subject matter and over IKEA, and it appearing that the Settlement Agreement and order are in the public interest, it is

Ordered that the Settlement Agreement be, and hereby is, accepted and it is

Further Ordered that IKEA shall pay a civil penalty in the amount of five hundred thousand dollars ($500,000.00), within twenty (20) calendar days of service of the Commission's final Order accepting the Settlement Agreement. The payment shall be made by check payable to the order of the United States Treasury. Upon the failure of IKEA to make the foregoing payment when due, interest on the unpaid amount shall accrue and. be paid by IKEA at the Federal legal rate of interest set forth at 28 U.S.C. 1961(a) and (b).

Provisionally accepted and Provisional Order issued on the 21st day of November, 2008.

By Order of the Commission.
Todd A. Stevenson,
Secretary, Consumer Product Safety Commission.

[FR Doc. E8-28166 Filed 11-28-08; 8:45 am]

BILLING CODE 6355-01-M